FEDERAL COMMUNICATIONS COMMISSION

47 CFR Part 73

[DA 04-3809; MB Docket No. 04-67; RM-10856]

Radio Broadcasting Services; Easthampton, MA; Malta, NY; and Pittsfield, MA

AGENCY: Federal Communications Commission.

ACTION: Final rule.

SUMMARY: In response to a Notice of Proposed Rule Making, 69 FR 16202 (March 29, 2004) this Report and Order upgrades Channel 289A, Station WNYQ(FM), Malta, New York, to Channel 289B1; reallots Channel 288A, Station WBEC-FM, Pittsfield, Massachusetts, to Easthampton, Massachusetts; and modifies Station WBEC-FM's license accordingly. The coordinates for Channel 289B1 at Malta, New York, are 42-58-17 NL and 73-40-52 WL, with a site restriction of 9.1 kilometers (5.7 miles) east of Malta. The coordinates for Channel 288A at Easthampton, Massachusetts, are 42-18-52 NL and 72-41-18 WL, with a site restriction of 5.5 kilometers (3.4 miles) north of Easthampton.

DATES: Effective January 18, 2005.

FOR FURTHER INFORMATION CONTACT: R. Barthen Gorman, Media Bureau, (202) 418-2180.

SUPPLEMENTARY INFORMATION: This is a synopsis of the Commission's Report and Order, MB Docket No. 04-67, adopted December 1, 2004, and released December 3, 2004. The full text of this Commission decision is available for inspection and copying during normal business hours in the FCC's Reference Information Center at Portals II, 445 12th Street, SW., Room CY-A257, Washington, DC, 20554. The document may also be purchased from the Commission's duplicating contractor, Best Copy and Printing, Inc., Portals II, 445 12th Street, SW., Room CY-B402, Washington, DC, 20554, telephone 1-800-378-3160 or http://www.BCPIWEB.com. The Commission will send a copy of the Report and Order in a report to be sent to Congress and the General Accounting Office pursuant to the Congressional Review Act, see 5 U.S.C. 801(a)(1)(A).

List of Subjects in 47 CFR Part 73

Radio, Radio broadcasting.

Part 73 of Title 47 of the Code of Federal Regulations is amended as follows:

PART 73—RADIO BROADCASTING SERVICES

1. The authority citation for Part 73 reads as follows:

Authority: 47 U.S.C. 154, 303, 334, and 336.

§ 73.202 [Amended]

2. Section 73.202(b), the Table of FM Allotments under Massachusetts, is amended by removing Channel 288A at Pittsfield, and adding Easthampton, Channel 288A.

3. Section 73.202(b), the Table of FM Allotments under New York, is amended by removing Channel 289A and by adding Channel 289B1 at Malta.

Federal Communications Commission.
John A. Karousos,
Assistant Chief, Audio Division, Media Bureau.

[FR Doc. 04-27795 Filed 12-17-04; 8:45 am]

BILLING CODE 6712-01-P